FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 8, 2002.

A. Federal Reserve Bank of Atlanta (Sue Costello, Vice President) 1000 Peachtree Street, N.E., Atlanta, Georgia 30309-4470:

1. Greene Revocable Trust U/A/D 8-29-90 Barnette Ellis Green, Jr. & Hariot Hughes Greene, Co-Trustees; Hariot H. Greene Revocable Trust U/A/D 6-29-99 Barmette Ellis Greene, Jr. & Hariot Hughes Greene, Co-Trustees; Jack Irvine Greene; Janie Elizabeth Greene; Ellis Sutherland Greene and Kathleen Farrell Greene; Griffin Aubrey Greene and Camille Koby Greene; Griffin Aubrey Greene; Kelly Foster Greene; Kelly Foster Greene and Linda Cook Greene; Scott Hughes Steiger Irrevocable Trust II U/A/D 1-10-89 Griffin Aubrey Greene and Janie Elizabeth Greene, Trustees; Derek Brian Steiger Irrevocable Trust II U/A/D 1-10-89 Griffin Aubrey Greene and Janie Elizabeth Greene, Trustees; Jasaline Celeste Greene Trust U/A/D 8-29-90 Ellis Sutherland Greene and Janie Elizabeth Greene, Trustees; Amanda Kathleen Greene Trust U/A/D 8-29-90 Ellis Sutherland Greene and Janie Elizabeth Greene, Trustees; Kolby Barnette Greene Trust U/A/D 11-12-98 Kelly Foster Greene and Janie Elizabeth Greene, Trustees; Kylee Joyce Greene Trust U/A/D 3-24-00 Kelly Foster Greene and Janie Elizabeth Greene Trustees; Greene Girls Properties, LLP; Greene Groves & Ranch, LTD; Camille Koby Greene, IRA; Jack Irvine Greene, IRA; Griffin Aubrey Greene; Whitney C. Greene; Lyndal M. Greene; Aubrey L. Greene; Anabelle G. Greene, all of Vero Beach, Florida; to retain voting shares of Indian River Banking Company, Vero Beach, Florida, and thereby indirectly retain voting shares of Indian River National Bank, Vero Beach, Florida.

Board of Governors of the Federal Reserve System, April 18, 2002.
Robert deV. Frierson,
Deputy Secretary of the Board.

[FR Doc. 02-9936 Filed 4-22-02; 8:45 am]

BILLING CODE 6210-01-S